DEPARTMENT OF THE INTERIOR

Minerals Management Service

Outer Continental Shelf (OCS), Headquarters, Cape Wind Energy Project 2008

AGENCY: Minerals Management Service (MMS), Interior.

ACTION: Notice of extension of public comment period.

DATES: Comments must be received no later than April 21, 2008.

SUMMARY: The Minerals Management Service hereby gives notice that it is extending the public comment period for the Cape Wind Energy Project Draft Environmental Impact Statement (DEIS), which was published in the Federal Register on January 18, 2008, (Volume 73, No. 13) for an additional 30 days. Please see the Notice of Availability of the DEIS (73 FR 3482) for more detailed information related to the Cape Wind Energy Project. In response to requests for additional time, the MMS will extend the comment period from March 20, 2008, to April 21, 2008.

Federal, State, tribal, and local governments and other interested parties are requested to comment on the DEIS. Comments will be accepted through the MMS Web site, by mail or in person at the public hearings as stated below.

1. Electronically using MMS's on-line commenting system at: http://ocsconnect.mms.gov/pcs-public/. This is the preferred method for commenting.

2. In written form, mailed or delivered to MMS Cape Wind Energy Project, TRC Environmental Corporation, Wannalancit Mills, 650 Suffolk Street, Lowell, Massachusetts 01854.

3. In person at the public hearings.

Public Hearings: The MMS will hold public hearings to receive comments on the DEIS. The public hearings are scheduled as follows:

• Monday, March 10, 2008 at Mattacheese Middle School Auditorium, 400

Higgins-Crowell Road, West Yarmouth, Massachusetts, 6 p.m.

• Tuesday, March 11, 2008 at Nantucket High School Auditorium, 10 Surfside Road, Nantucket, Massachusetts, 5 p.m.

• Wednesday, March 12, 2008 at Martha's Vineyard Regional High School Auditorium, 100 Edgartown-Vineyard Haven Road, Oak Bluffs, Massachusetts, 5 p.m.

• Thursday, March 13, 2008 at Campus Center Ballroom, University of Massachusetts, Boston, 100 Morrissey Boulevard, South Boston, Massachusetts, 6 p.m.

Correction: The January 18, 2008, Federal Register Notice indicated that pre-registration would be available prior to the public hearings. There is no pre-registration for the public hearings. Registration for the public hearings will begin one hour before each hearing starts.

FOR FURTHER INFORMATION CONTACT: Dr. Rodney E. Cluck, Minerals Management Service, Alternative Energy Program, 381 Elden Street, Mail Stop 4080, Herndon, Virginia 20170, or by phone at (703) 787-1300.

Dated: March 4, 2008.
Chris C. Oynes,
Associate Director for Offshore Minerals Management.

[FR Doc. E8-4700 Filed 3-7-08; 8:45 am]

BILLING CODE 4310-MR-P